SOCIAL SECURITY ADMINISTRATION

[Docket No: SSA-2015-0062 ]

Agency Information Collection Activities: Proposed Request and Comment Request

The Social Security Administration (SSA) publishes a list of information collection packages requiring clearance by the Office of Management and Budget (OMB) in compliance with Public Law 104-13, the Paperwork Reduction Act of 1995, effective October 1, 1995. This notice include an extension and a revision of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA, Fax: 202-395-6974, Email address: OIRA_Submission@omb.eop.gov.

(SSA) Social Security Administration, OLCA, Attn: Reports Clearance Director, 3100 West High Rise, 6401 Security Blvd., Baltimore, MD 21235, Fax: 410-966-2830, Email address: OR.Reports.Clearance@ssa.gov.

Or you may submit your comments online through www.regulations.gov, referencing Docket ID Number [SSA-2015-0062].

I. The information collection below is pending at SSA. SSA will submit it to OMB within 60 days from the date of this notice. To be sure we consider your comments, we must receive them no later than December 21, 2015. Individuals can obtain copies of the collection instruments by writing to the above email address.

Protecting the Public and Our Personnel To Ensure Operational Effectiveness (RIN 0960-AH35), Regulation 3729I—20 CFR 422.905, 422.906—0960-0796.

Background

On September 2, 2011, the agency published interim final regulations and notifications processes for the restrictive access and alternative service process at 76 FR 54700. These regulations explain the process we follow when we restrict individuals from receiving in-person services in our field offices and provide them, instead, with alternative services. We published these rules to create a safer environment for our personnel and members of the public who use our facilities, while ensuring we continue to serve the American people with as little disruption to our operations as possible.

Under our regulations at 20 CFR 422.905, an individual whom we restrict access to our facilities has the opportunity to appeal our decision within 60 days of the date of the restrictive access and alternative service notice. Under 20 CFR 422.906, if the individual does not appeal the decision within the 60 days; if we restrict the individual prior to the effective date of this regulation; or if the appeal results in a denial, the individual has another opportunity to request review of the restriction after a three-year period. We make this periodic review available to all restricted individuals once every three years.

Information Collection Description

The interim final restrictive access and alternative services rules contain two public reporting burdens:

• 20 CFR 422.905—after SSA issues a restrictive access and alternative service decision against an individual, the individual has 60 days to appeal the determination. Restricted individuals must submit a written appeal stating why they believe SSA should rescind the restriction and allow them to conduct business with us on a face-to-face basis in one of our offices. There is no printed form for this request; restricted individuals create their own written statement of appeal, and submit it to a sole decision-maker in the regional office of the region where the restriction originated. The individuals may also provide additional documentation to support their appeal.

• 20 CFR 422.906—three years after the original restrictive access and alternative service decision, restricted individuals may re-submit a written appeal of the decision. The same criteria apply as for the original appeal: (1) It must be in writing; (2) it must go to a sole decision-maker in the regional office of the region where the restriction originated for review; and (3) it may accompany supporting documentation.

Respondents for this collection are individuals appealing their restrictions from in-person services at SSA field offices.

Type of Request: Extension of an OMB-approved information collection.

Regulation section | Number of respondents | Frequency of response | Average burden per response (minutes) | Estimated total annual burden (hours)
20 CFR 422.905 | 75 | 1 | 15 | 19
20 CFR 422.906 | 75 | 1 | 20 | 25
Totals | 150 |  |  | 44

II. SSA submitted the information collection below to OMB for clearance. Your comments regarding the information collection would be most useful if OMB and SSA receive them 30 days from the date of this publication. To be sure we consider your comments, we must receive them no later than November 23, 2015. Individuals can obtain copies of the OMB clearance packages by writing to OR.Reports.Clearance@ssa.gov.

Statement of Household Expenses and Contributions—20 CFR 416.1130-416.1148—0960-0456. SSA bases eligibility for Supplemental Security Income (SSI) on the needs of the recipient. In part, we assess need by determining the amount of income a recipient receives. This income includes in-kind support and maintenance in the form of food and shelter provided by others. SSA uses Form SSA-8011-F3, to determine whether the claimant or recipient receives in-kind support and maintenance. This is necessary to determine (1) the claimant or recipient's eligibility for SSI and (2) the SSI payment amount. SSA only uses this form in cases where SSA needs the householder's (head of household) corroboration of in-kind support and maintenance. Respondents are householders of homes in which an SSI applicant or recipient resides

Type of Request: Revision of an OMB-approved information collection.

Modality of completion | Number of respondents | Frequency of response | Average burden per response (minutes) | Estimated total annual burden (hours)
SSA-8011-F3 | 417,025 | 1 | 15 | 104,256

Dated: October 19, 2015.
Naomi R. Sipple,
Reports Clearance Officer, Social Security Administration.

[FR Doc. 2015-26821 Filed 10-21-15; 8:45 am]

BILLING CODE 4191-02-P